DEPARTMENT OF ENERGY

Federal Energy Regulatory Commission

[Docket No. RP98-18-009]

Iroquois Gas Transmission System, L.P.; Notice of Compliance Filing

November 17, 2003.

Take notice that on November 12, 2003, Iroquois Gas Transmission System, L.P. (Iroquois) tendered for filing as part of its FERC Gas Tariff, First Revised Volume No. 1, Substitute First Revised Sheet No. 8, proposed to become effective November 1, 2003.

Pursuant to the Commission's October 28, 2003 Order, Iroquois has opted not to file a revised tariff sheet to provide all shippers with the same contract term extension it was originally proposing to offer Amerada Hess Corporation (Amerada). Iroquois therefore submits Substitute First Revised Sheet No. 8 to replace First Revised Sheet No. 8 in order to delete the reference to the Amerada contract and retain this section in its tariff to list any future Commission approved non-conforming contracts.

Iroquois states that copies of its filing were served on all jurisdictional customers and interested state regulatory agencies and all parties to the proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00355 Filed 11-21-03; 8:45 am]

BILLING CODE 6717-01-P